DEPARTMENT OF ENERGY

Federal Energy Regulatory Commission

[Docket No. EC00-121-000, et al.]

The Southern Company and Southern Energy, Inc., et al.; Electric Rate and Corporate Regulation Filings

August 9, 2000.

Take notice that the following filings have been made with the Commission:

1. The Southern Company and Southern Energy, Inc.

[Docket No. EC00-121-000]

Take notice that on August 4, 2000, The Southern Company and Southern Energy, Inc. (Applicants) filed a joint application pursuant to Section 203 of the Federal Power Act, 16 U.S.C. 824b (1994), for authorization to accomplish the disposition of jurisdictional assets through divestiture and a request for expedited approval in the above-referenced docket.

Comment date: September 5, 2000, in accordance with Standard Paragraph E at the end of this notice.

2. Entergy Services, Inc.

[Docket No. ER00-2816-001]

Take notice that on August 7, 2000, Entergy Services, Inc. (Entergy), on behalf of Entergy Arkansas, Inc., Entergy Gulf States, Inc., Entergy Louisiana, Inc., Entergy Mississippi, Inc., and Entergy New Orleans, Inc. (collectively, the Entergy Operating Companies), tendered for filing in the above docket an amended Long-Term Firm Point-to-Point Transmission Service Agreement (the Agreement) between Entergy and Entergy Services, Inc. (EMO).

Entergy submitted the amended Agreement in response to the Commission's letter of July 6, 2000 issued in the above docket, directing Entergy to revise the Agreement in various respects.

Comment date: August 28, 2000, in accordance with Standard Paragraph E at the end of this notice.

3. New York Independent System Operator, Inc., New York State Electric & Gas Corporation v. New York Independent System Operator, Inc.

[Docket Nos. ER00-3038-002 and EL00-70-003]

Take notice that on August 4, 2000, the New York Independent System Operator, Inc. (NYISO), filed its preliminary compliance report concerning pro rata curtailment procedures and fixed block generation pricing rules in the above-captioned proceeding. A copy of this filing was served upon all persons on the Commission's official service list.

Comment date: September 5, 2000, in accordance with Standard Paragraph E at the end of this notice.

4. The Montana Power Trading and Marketing Company

[Docket No. ER00-3367-000]

Take notice that on August 4, 2000, The Montana Power Trading and Marketing Company (MPT&M), tendered for filing a Notice of Cancellation of its Market Based Rate Tariff. MPT&M also submitted Notices of Cancellation for Rate Schedule FERC Nos. 1, 3 and 4, and Supplement No. 4 to Rate Schedule FERC No. 1.

MPT&M respectfully requests waiver of the 60-day notice requirement for good cause shown. MPT&M has served each affected party with the relevant Notice of Cancellation.

Comment date: August 25, 2000, in accordance with Standard Paragraph E at the end of this notice.

5. The Montana Power Trading and Marketing Company

[Docket No. ER00-3368-000]

Take notice that on August 4, 2000, The Montana Power Trading and Marketing Company (MPT&M), tendered for filing a letter requesting Commission approval of MPT&M's assignment of its membership in the Western Systems Power Pool (WSPP) to The Montana Power Company with an effective date of August 30, 2000. Such assignment is allowed under Section 14 of the WSPP Agreement.

A copy of the filing was served upon the General Counsel to the WSPP.

Comment date: August 25, 2000, in accordance with Standard Paragraph E at the end of this notice.

6. Mid-Continent Area Power Pool

[Docket No. ER00-3369-000]

Take notice that on August 7, 2000, the Mid-Continent Area Power Pool (MAPP), on behalf of its members that are subject to Commission jurisdiction as public utilities under Section 201(e) of the Federal Power Act, tendered for filing amendments to the Restated Agreement and Schedule F so as to allow MAPP members to participate in certain MAPP committees without becoming members of other committees.

Comment date: August 28, 2000, in accordance with Standard Paragraph E at the end of this notice.

7. New Century Services, Inc.

[Docket No. ER00-3370-000]

Take notice that on August 7, 2000, New Century Services, Inc. on behalf of Cheyenne Light, Fuel and Power Company, Public Service Company of Colorado, and Southwestern Public Service Company (the Companies), tendered for filing a service agreement under their Joint Open Access Transmission Service Tariff for Firm Point-to-Point Transmission Service between the Companies and Constellation Power Source, Inc.

Comment date: August 28, 2000, in accordance with Standard Paragraph E at the end of this notice.

8. New Century Services, Inc.

[Docket No. ER00-3371-000]

Take notice that on August 7, 2000, New Century Services, Inc. on behalf of Cheyenne Light, Fuel and Power Company, Public Service Company of Colorado, and Southwestern Public Service Company (the Companies), tendered for filing a service agreement under their Joint Open Access Transmission Service Tariff for Non-Firm Point-to-Point Transmission Service between the Companies and Constellation Power Source, Inc.

Comment date: August 28, 2000, in accordance with Standard Paragraph E at the end of this notice.

9. The Montana Power Company

[Docket No. ER00-3372-000]

Take notice that on August 7, 2000, The Montana Power Company (Montana), tendered for filing with the Federal Energy Regulatory Commission pursuant to 18 CFR 35.13 an executed Network Integration Transmission Service Agreement with Stimson Lumber Company Open Access Transmission Tariff).

A copy of the filing was served upon Stimson Lumber Company.

Comment date: August 28, 2000, in accordance with Standard Paragraph E at the end of this notice.

10. Northeast Utilities Service Company

[Docket No. ER00-3374-000]

Take notice that on August 7, 2000, Northeast Utilities Service Company (NUSCO), on behalf of its affiliates, The Connecticut Light and Power Company, Western Massachusetts Electric Company, Holyoke Water Company, Holyoke Power and Electric Company, and Public Service Company of New Hampshire, submitted pursuant to Section 205 of the Federal Power Act and Part 35 of the Commission's Regulations, an agreement that amend a rate schedule to an Amended and Restated Power Sales Agreement between NUSCO and Citizens Power Sales LLC (formerly Citizens Lehman Power Sales), under the NU System Companies' Sale for Resale Tariff No. 6.

NUSCO requests an effective date of August 8, 2000, or at the earliest possible date thereafter.

NUSCO states that a copy of this filing has been mailed to Citizens Power Sales LLC and the Connecticut Department of Public Utility Control.

Comment date: August 28, 2000, in accordance with Standard Paragraph E at the end of this notice.

11. Metropolitan Edison Company

[Docket No. ER00-3375-000]

Take notice that on August 7, 2000, Metropolitan Edison Company (doing business and hereinafter referred to as GPU Energy), tendered for filing two letter agreements between GPU Energy and PPL Electric Utilities Corporation (PPL). Under the agreements, PPL has accepted certain operational and financial responsibilities, including those set forth in the GPU Energy's procedure manuals for the determination of PPL's peak load share and total hourly energy obligation in connection with PPL becoming a Load Serving Entity for the Pennsylvania Boroughs of Lewisberry and Goldsboro.

Copies of the filing were served upon PPL and regulators in the Commonwealth of Pennsylvania.

Comment date: August 28, 2000, in accordance with Standard Paragraph E at the end of this notice.

12. The Potomac Edison Company, PE Transferring Agent, L.L.C., PE Generating Company, L.L.C., Allegheny Energy Supply Company, L.L.C.

[Docket No. ER00-3373-000]

Take notice that on August 7, 2000, The Potomac Edison Company, PE Transferring Agent, L.L.C., PE Generating Company, L.L.C., and Allegheny Energy Supply Company, L.L.C., tendered for filing agreements assigning Potomac's right, title and interest in an Inter-Company Power Agreement among Ohio Valley Electric Corporation, Appalachian Power Company, The Cincinnati Gas & Electric Company, Columbus Southern Power Company, The Dayton Power and Light Company, Indiana Michigan Power Company, Kentucky Utilities Company, Louisville Gas and Electric Company, Monongahela Power Company, Ohio Edison Company, Pennsylvania Power Company, The Potomac Edison Company, Southern Indiana Gas and Electric Company, The Toledo Edison Company, and West Penn, dated July 10, 1953, as amended from time to time. The Applicants state the Commission previously authorized this assignment in an order dated June 30, 2000. The Potomac Edison Company, 91 FERC ¶62,245 (2000). The Applicants request that the Commission accept the proposed assignment effective on August 2, 2000, the date the assignments occurred as previously authorized by the Commission.

Copies of the filing have been provided to the Public Utilities Commission of Ohio, the Pennsylvania Public Utility Commission, the Maryland Public Service Commission, the Virginia State Corporation Commission, the West Virginia Public Service Commission, and all parties of record.

Comment date: August 28, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

Dated:
David P. Boergers,
Secretary.

[FR Doc. 00-21018 Filed 8-17-00; 8:45 am]

BILLING CODE 6717-01-U